DEPARTMENT OF TRANSPORTATION

Coast Guard

33 CFR Part 165

[COTP Western Alaska-01-001]

RIN 2115-AA97

Safety Zone; Gulf of Alaska, southeast of Narrow Cape, Kodiak Island, AK

AGENCY: Coast Guard, DOT.

ACTION: Temporary final rule; Correction.

SUMMARY: The Coast Guard published in the Federal Register of March 19, 2001, a document establishing a temporary safety zone in the Gulf of Alaska, southeast of Narrow Cape, Kodiak Island, Alaska. The effective date of the safety zone has changed from March 23, 2001 to March 22, 2001. This correction changes that date.

DATES: This temporary final rule is effective on March 22, 2001.

ADDRESSES: The public docket for this rulemaking is maintained by Coast Guard Marine Safety Office Anchorage, 510 “L” Street, Suite 100, Anchorage, AK 99501. Materials in the public docket are available for inspection and copying at Coast Guard Marine Safety Office Anchorage. Normal office hours are 7:30 a.m. to 4 p.m., Monday through Friday, except federal holidays.

FOR FURTHER INFORMATION CONTACT: LCDR Rick Rodriguez, Marine Safety Office Anchorage, at (907) 271-6700.

SUPPLEMENTARY INFORMATION: The Coast Guard published a document, in the Federal Register of March 19, 2001 (66 FR 15350) establishing a temporary safety zone in the Gulf of Alaska, southeast of Narrow Cape, Kodiak Island, Alaska, effective March 23, 2001. The effective date has changed to March 22, 2001 due to a late revision of the rocket launch date. This correction changes the beginning effective date of March 23, 2001 to March 22, 2001.

§ 165.T17-012 [Corrected]

In rule FR Document 01-6740 published on March 19, 2001 (66 FR 15350) make the following corrections. On page 15350, in the 2nd column under Background and Purpose, remove the date “March 23, 2001” and add the date “March 22, 2001”. On page 15350, in the 3rd column under Discussion of Regulation, remove the date “March 23, 2001” and add the date “March 22, 2001”. On page 15351, in the 3rd column under amendatory instruction 2, in paragraph (b), remove the date “March 23, 2001” and add the date “March 22, 2001”.

Dated: March 19, 2001.
H.M. Hamilton,
Commander, U.S. Coast Guard, Captain of the Port, Western Alaska, Acting.

[FR Doc. 01-7114 Filed 3-20-01; 8:45 am]

BILLING CODE 4910-15-M